DEPARTMENT OF THE INTERIOR

National Park Service

Notice of Intent To Repatriate Cultural Items: Milwaukee Public Museum, Milwaukee, WI

AGENCY: National Park Service, Interior.

ACTION: Notice.

Notice is here given in accordance with the Native American Graves Protection and Repatriation Act (NAGPRA), 25 U.S.C. 3005, of the intent to repatriate cultural items in the possession of the Milwaukee Public Museum, Milwaukee, WI, that meets the definitions of “sacred object” or “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The three cultural items are one catlinite tube pipe (MPM A14350/ 3639), one woven bag with water serpent motif (MPM E3170/14), and one wooden bowl with handles (MPM E56211/17617). The three cultural items are affiliated with the Ottawa tribe (also known as the Odawa) of Michigan. All cultural items were acquired in Michigan in an area long associated with the Odawa. It would be unlikely that other tribes may claim these cultural items since the associated geographical area makes a strong case for affiliation. The three items are associated with the categories in which they are claimed by the Little Traverse Bay Band of Odawa Indians, Michigan.

The pipe is claimed as a sacred object. In 1913, the pipe was donated to the museum by George West, collector and Milwaukee Public Museum trustee. It was collected by Walter P. Wyman who obtained it in Emmet County, MI. It was found “by an Indian in 1900 in the field on the lake bank of L'Arbor Croche.” Pipes are considered to be sacred objects by Odawa religious leaders.

The bag is claimed as an object of cultural patrimony. In 1905, the museum purchased the cultural item from Mrs. Wilkinson of Beloit, WI. In August 1889, the cultural item was collected by George Wilkinson at Cross Village, MI, from Mrs. Shartleff. The museum documentation states that the bag was given to Mrs. Shartleff's father by an Indian princess in 1770. The bag is considered to be an object of cultural patrimony since it would have been used in ceremonies to protect the Odawa tribe, as a whole. Furthermore, this bag could not have been alienated by a single individual since its particular use was for the benefit of the entire tribe.

The bowl is claimed as an object of cultural patrimony. In 1956, the bowl was purchased by the museum from the Logan Museum of Anthropology, Beloit College, WI. It was originally part of the Albert Green Heath Collection. Heath was an avid collector of Native American material. According to the Logan Museum records, the bowl was collected from Aniquam at Cross Village, MI. The Odawa traditionally had three types of wooden bowls: personal bowls, community bowls, and ceremonial bowls. This bowl is considered to be a communal bowl that is owned by the entire tribe. The bowl is used for special ceremonies and is believed by the Odawa to contain manidok (spirits) that are members of the community that help the Odawa maintain their cultural beliefs and traditions.

Officials of the Milwaukee Public Museum have determined that, pursuant to 25 U.S.C. 3001 (3)(C), the one cultural item described above is a specific ceremonial object needed by traditional Native American religious leaders for the practice of traditional Native American religions by their present-day adherents. Officials of the Milwaukee Public Museum also have determined that, pursuant to 25 U.S.C. 3001 (3)(D), the two cultural items described above have ongoing historical, traditional, or cultural importance central to the Native American group or culture itself, rather than property owned by an individual. Lastly, officials of the Milwaukee Public Museum have determined that, pursuant to 25 U.S.C. 3001 (2), there is a relationship of shared group identity that can be reasonably traced between the sacred object and objects of cultural patrimony and the Little Traverse Bay Bands of Odawa Indians, Michigan.

Representatives of any other Indian tribe that believes itself to be culturally affiliated with the sacred object and objects of cultural patrimony should contact Dawn Scher Thomae, Milwaukee Public Museum, 800 W. Wells St., Milwaukee, WI 53233, telephone (414) 278-6157, before September 24, 2009. Repatriation of the sacred object and objects of cultural patrimony to the Little Traverse Bay Bands of Odawa Indians, Michigan may proceed after that date if no additional claimants come forward.

The Milwaukee Public Museum is responsible for notifying the Little Traverse Bay Bands of Odawa Indians, Michigan that this notice has been published.

Dated: August 12, 2009
Sherry Hutt,
Manager, National NAGPRA Program.

[FR Doc. E9-20484 Filed 8-24-09; 8:45 am]

BILLING CODE 4312-50-S